DEPARTMENT OF THE INTERIOR

Fish and Wildlife Service

[FWS-R8-ES-2019-N111; FXES11140000-189-FF08E00000]

Proposed Upper Santa Ana River Habitat Conservation Plan and Draft Environmental Impact Statement; San Bernardino County, CA; Correction

AGENCY: Fish and Wildlife Service, Interior.

ACTION: Notice; correction.

SUMMARY: The U.S. Fish and Wildlife Service published a document in the December 9, 2019, Federal Register that announced the availability of a proposed habitat conservation plan (HCP) and a draft environmental impact statement for public comment. The subject heading of the document incorrectly referred to the “Upper Santa Ana River Habitat Conservation Plan” instead of the “Upper Santa Ana River Wash Habitat Conservation Plan,” which is the correct name of the HCP.

FOR FURTHER INFORMATION CONTACT: Karin Cleary-Rose, 760-322-2070.

SUPPLEMENTARY INFORMATION:

Correction

In notice document 2019-26478, appearing at 84 FR 67292 in the issue of Monday, December 9, 2019, make the following correction: On page 67292, the subject heading should read “Proposed Upper Santa Ana River Wash Habitat Conservation Plan and Draft Environmental Impact Statement; San Bernardino County, CA”.

Sara Prigan,
Federal Register Liaison.

[FR Doc. 2019-27673 Filed 12-20-19; 8:45 am]

BILLING CODE 4333-15-P